DEPARTMENT OF EDUCATION

Extension of the Application Deadline Date; Applications for New Awards; Magnet Schools Assistance Program

AGENCY: Office of Elementary and Secondary Education, Department of Education.

ACTION: Notice.

SUMMARY: On March 10, 2020, we published in the Federal Register (85 FR 13878) a notice inviting applications (NIA) for the fiscal year (FY) 2020 Magnet Schools Assistance Program competition, Catalog of Federal Domestic Assistance (CFDA) number 84.165A. The NIA established a deadline date of May 26, 2020 for the transmittal of applications. This notice extends the deadline date for transmittal of applications until June 30, 2020 and extends the date of intergovernmental review until August 28, 2020. It also extends the date for proof of approval of all modifications to court-ordered desegregation plans to July 28, 2020.

DATES:

Deadline for Transmittal of Applications: June 30, 2020.

Deadline for Intergovernmental Review: August 28, 2020.

FOR FURTHER INFORMATION CONTACT: Gillian Cohen-Boyer Telephone: 202-401-1259. Email: MSAP.team@ed.gov.

If you use a telecommunications device for the deaf (TDD) or a text telephone (TTY), call the Federal Relay Service (FRS), toll free, at 1-800-877-8339.

SUPPLEMENTARY INFORMATION: On March 10, 2020 we published the NIA ¹ for the FY 2020 Magnet Schools Assistance Program competition in the Federal Register (85 FR 13878). We are extending the deadline date for transmittal of applications in order to allow applicants more time to prepare and submit their applications.

¹ https://www.federalregister.gov/documents/2020/03/10/2020-04885/applications-for-new-awards-magnet-schools-assistance-program.

Additionally, the NIA indicated that proof of approval of all modifications to court-ordered desegregation plans could be submitted to the Department following the application due date. The new deadline for proof of modifications is July 28, 2020.

Please also note that Grants.gov has relaxed the requirement for applicants to have an active registration in the System for Award Management (SAM) in order to apply for funding during the COVID-19 pandemic. An applicant that does not have an active SAM registration can still register with Grants.gov, but must contact the Grants.gov Support Desk, toll-free, at 1-800-518-4726, in order to take advantage of this flexibility.

Note: While applications must be transmitted in the FY 2020 year, which ends on September 30, 2020, any awards granted will be made only after all applicable reviews and certifications have been completed. All other information in the NIA for this competition remains the same, except for the deadline for the transmittal of applications, intergovernmental review, and proof of modified desegregation plans, if court ordered.

Program Authority: 20 U.S.C. 7231-7231j.

Accessible Format: Individuals with disabilities can obtain this document and a copy of the application package in an accessible format (e.g., braille, large print, audiotape, or compact disc) on request to the program contact person listed under FOR FURTHER INFORMATION CONTACT.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at: www.federalregister.gov. Specifically, through the advanced search feature at this site, you can limit your search to documents published by the Department.

Frank T. Brogan,
Assistant Secretary for Elementary and Secondary Education.

[FR Doc. 2020-11212 Filed 5-22-20; 8:45 am]

BILLING CODE 4000-01-P